PENSION BENEFIT GUARANTY CORPORATION

Submission of Information Collection for OMB Review; Comment Request; Annual Reporting and Disclosure

AGENCY: Pension Benefit Guaranty Corporation.

ACTION: Notice of request for extension of OMB approval.

SUMMARY: The Pension Benefit Guaranty Corporation (PBGC) is requesting that the Office of Management and Budget (OMB) extend approval, under the Paperwork Reduction Act, of the collection of information for annual reporting and disclosure under 29 CFR part 2520 (OMB control number 1212-0057, expires September 30, 2010), without change. This notice informs the public of PBGC's intent and solicits public comment on the collection of information.

DATES: Comments must be submitted by October 12, 2010.

ADDRESSES: Comments should be sent to the Office of Information and Regulatory Affairs, Office of Management and Budget, Attention: Desk Officer for the Pension Benefit Guaranty Corporation, via electronic mail at OIRA_DOCKET@omb.eop.gov or by fax to 202-395-6974.

Copies of the collection of information and PBGC's request may also be obtained without charge by writing to the Disclosure Division, Office of General Counsel, at the above address or by visiting the Disclosure Division or calling 202-326-4040 during normal business hours. (TTY/TDD users may call the Federal relay service toll-free at 1-800-877-8339 and ask to be connected to 202-326-4040.)

FOR FURTHER INFORMATION CONTACT: Grace Kraemer, Staff Attorney, Legislative and Regulatory Department, Pension Benefit Guaranty Corporation, 1200 K Street, NW., Washington, DC 20005-4026; 202-326-4024. (TTY/TDD users may call the Federal relay service toll-free at 1-800-877-8339 and ask to be connected to 202-326-4024.)

SUPPLEMENTARY INFORMATION: The Employee Retirement Income Security Act of 1974 (ERISA) contains three separate sets of provisions—in Title I (Labor provisions), Title II (Internal Revenue Code provisions), and Title IV PBGC provisions)—requiring administrators of employee benefit pension and welfare plans (collectively referred to as employee benefit plans) to file returns or reports annually with the federal government.

Since enactment of ERISA, PBGC, the Department of Labor (DOL), and the Internal Revenue Service (IRS) (collectively, the Agencies), have worked together (under DOL's leadership) to produce the Form 5500 Annual Return/Report, through which the regulated public can satisfy the combined reporting/filing requirements applicable to employee benefit plans.

On November 16, 2007, the Agencies adopted revisions to the Form 5500 Annual Return/Report, including the establishment of a new Form 5500-SF (Short Form 5500) for certain small plans, in order to update and streamline the annual reporting process in conjunction with establishing a wholly electronic processing system for the receipt of the Form 5500 Annual Return/Reports and conform the forms to the provisions of the Pension Protection Act of 2006 (PPA). A final rule, which was published contemporaneously with the revisions, amended DOL's electronic filing regulation at 29 CFR 2520.104a-2 to provide that the electronic filing requirement is applicable only for plan years beginning on or after January 1, 2009.

On July 17, 2007, PBGC submitted a regular change request to OMB for approval of a three-year renewal period for the information collection requests (ICRs) contained under OMB Control Number 1212-0057. At that time, PBGC and OMB agreed that PBGC would file a non-material, non-substantive change request for the 2008 Form 5500 and Instructions and the 2008 Form 5500-SF and Instructions (Forms and Instructions) (and in 2009 for the 2009 Forms and Instructions) as long as no additional program changes were made. OMB approved the three-year renewal on September 24, 2007.

On November 10, 2008, PBGC submitted a non-material, non-substantive change request with updated cost and hour burden estimates for the 2008 Forms and Instructions, which were approved by OMB on November 10, 2008.

On July 25, 2009, PBGC submitted a non-material, non-substantive change request with updated cost and hour burden estimates for the 2009 and 2010 Forms and Instructions (without the Instructions for the 2010 Schedules SB and MB), which were approved on November 6, 2009 with the understanding that these Instructions would be submitted to OMB when they are available.

On April 16, 2010, PBGC submitted a non-material, non-substantive change request for the 2009 and 2010 Forms and Instructions, to reflect revisions to the Instructions for Schedules SB and MB. This ICR was approved by OMB on April 26, 2010.

On May 20, 2010, PBGC submitted a non-material, non-substantive change request for guidance on the 2009 Instructions for Schedule R (Retirement Plan Information). This ICR was approved by OMB on June 6, 2010.

Thus, OMB has approved PBGCs annual reporting and disclosure collection of information (2008-2010 Forms and Instructions) under control number 1212-0057 through September 30, 2010. PBGC is requesting that OMB extend approval of this collection of information for three years, without change. An agency may not conduct or sponsor, and a person is not required to respond to, a collection of information unless it displays a currently valid OMB control number.

PBGC estimates that it will receive 30,300 Form 5500 and Form 5500-SF filings per year under this collection of information. PBGC further estimates that the total annual burden of this collection of information is 1,200 hours and $1,250,000.

Issued in Washington, DC, this 3rd day of September, 2010.
Catherine B. Klion,
Manager,Regulatory and Policy Division,Legislative and Regulatory Department,Pension Benefit Guaranty Corporation.

[FR Doc. 2010-22493 Filed 9-8-10; 8:45 am]

BILLING CODE 7709-01-P